DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Day 8 to 10 Forecast Focus Groups, Interviews and Survey.

OMB Control Number: 0648-xxxx.

Form Number(s): None.

Type of Request: Regular (request for a new information collection).

Number of Respondents: 775.

Average Hours per Response: Focus groups, 2 hours; interviews, 1 hour; survey, 30 minutes.

Burden Hours: 485.

Needs and Uses: The objective of the web-based focus groups, phone interviews, and online survey is to collect information on the current use of NOAA's National Weather Service (NWS) Weather Prediction Center (WPC) products, including probabilistic forecasts focusing on the 8 to 10 day timeframe, as well as forecast needs. The web-based focus groups and phone interviews will ask participants to explain their survey responses. This information will help create better 8 to 10 day weather forecast products used by the National Weather Service (NWS) to protect lives and property.

Affected Public: Individuals or households; business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: July 27, 2017.
Sarah Brabson,
NOAA PRA Clearance Officer.

[FR Doc. 2017-16189 Filed 8-1-17; 8:45 am]

BILLING CODE 3510-KE-P